DEPARTMENT OF AGRICULTURE

Agricultural Marketing Service

[Doc. No. DA-08-09; AMS-DA-08-0082 ]

Notice of Request for Extension of a Currently Approved Information Collection

AGENCY: Agricultural Marketing Service, USDA.

ACTION: Notice.

SUMMARY: In accordance with the Paperwork Reduction Act of 1995 (44 U.S.C. Chapter 35), this notice announces the Agricultural Marketing Service's (AMS) intention to request an extension of a currently approved information collection for the Regulations Governing the Inspection and Grading Services of Manufactured or Processed Dairy Products, and the Certification of Sanitary Design and Fabrication of Equipment Used in the Slaughter, Processing, and Packaging of Livestock and Poultry Products.

DATES: Comments must be received by October 17, 2008 to be considered.

ADDITIONAL INFORMATION OR COMMENTS: Contact Reginald L. Pasteur, USDA/AMS/Dairy Programs, Dairy Standardization Branch, Room 2746—South Building, 1400 Independence Avenue, SW., Washington, DC 20250-0230; Tel: (202) 690-3571, Fax: (202) 720-2643 or via e-mail at reginald.pasteur@usda.gov.

SUPPLEMENTARY INFORMATION: Title: Reporting Requirements Under Regulations Governing the Inspection and Grading Services of Manufactured or Processed Dairy Products.

OMB Number: 0581-0126.

Expiration Date of Approval: June 30, 2009.

Type of Request: Revision of a currently approved information collection.

Abstract: The dairy grading program is a voluntary user fee program authorized under the Agricultural Marketing Act (AMA) of 1946 (7 U.S.C. 1621-1627). The regulations governing inspection and grading services of manufactured or processed dairy products are contained in 7 CFR part 58. In order for a voluntary inspection form to perform satisfactorily, appropriate information must be collected. The information requested is used to identify the product offered for grading, to identify a request from a manufacturer of equipment used in dairy, meat or poultry industries for evaluation regarding sanitary design and construction, to identify and contact the party responsible for payment of the inspection, grading or equipment evaluation fee and expense and, to identify applicants who wish to be authorized for the display of official identification on product packaging materials, equipment, utensils, or on descriptive or promotional materials.

Estimate of Burden: Public reporting burden for this record keeping is estimated to average .0585 hours per response.

Respondents: Distributors, manufacturers, and packers of butter and cheese; and manufacturers of processing equipment used in the dairy, meat and poultry industries.

Estimated Number of Respondents: 400.

Estimated Total Annual Burden on Respondents: 360.

Comments are invited on: (1) Whether the proposed collection of the information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including use of appropriate automated, electronic, mechanical, or other technological collection techniques or other forms of information technology. Comments should reference OMB No. 0581-0126 and the Dairy Inspection and Grading Program and be sent to the Office of the Deputy Administrator, USDA/AMS/Dairy Programs, Room 2968-S, 1400 Independence Avenue, SW., Washington, DC 20090-6456. Comments should reference the docket number and the date and page number of this issue of the Federal Register and be submitted at the Federal eRulemaking portal: http://www.regulations.gov. All comments received will be available for public inspection during regular business hours at the same address.

All responses to this notice will be summarized and included in the request for OMB approval. All comments will become a matter of public record.

Authority: 7 U.S.C. 1621-1627.

Dated: September 29, 2008.
Lloyd C. Day,
Administrator, Agricultural Marketing Service.

[FR Doc. E8-23392 Filed 10-2-08; 8:45 am]

BILLING CODE 3410-02-P